DEPARTMENT OF TRANSPORTATION

Federal Transit Administration

Environmental Impact Statement for Transportation Improvements Within the Northeast (University) Corridor, Charlotte, NC

AGENCY: Federal Transit Administration, DOT.

ACTION: Notice of Intent to prepare an Environmental Impact Statement (EIS).

SUMMARY: The Federal Transit Administration (FTA), the Federal lead agency, and the City of Charlotte, the local lead agency, intend to prepare an environmental impact statement (EIS) in accordance with the National Environmental Policy Act (NEPA) for transportation improvements within the proposed Northeast Corridor in Mecklenburg County, North Carolina. The study corridor of approximately 14 miles extends from Uptown Charlotte (the center city) in Mecklenburg County to the Concord Mills area near the Mecklenburg-Cabarrus County line.

The Charlotte-Mecklenburg region is developing an integrated land use and supportive transit plan. Building on the 2025 Integrated Transit/Land Use Plan for Charlotte-Mecklenburg, four corridor Major Investment Studies (MISs) are being prepared for the North, Northeast (University), Southeast (Independence), and West (Airport) corridors. A previously-prepared MIS for the South Corridor resulted in a light rail transit project for that corridor.

The EIS will be prepared following completion of a MIS for the Northeast Corridor. The Northeast Corridor MIS will evaluate the land use, mobility, and environmental benefits, costs and impacts of various land use and transportation alternatives. The MIS will evaluate the following alternatives: A No-Build alternative; a Transportation System Management alternative consisting of low to medium cost improvements to the facilities and operation of local bus services (Charlotte Area Transit System) in addition to currently planned transit improvements in the study corridor; and multiple “Build” alternatives including bus rapid transit, various types of rail transit facilities, and combinations of these types of transit services, as well as alternative land use scenarios. (See Section III. Alternatives for additional information).

The sequence of events for the planning and development for this project include the following major milestones:

Scoping Process—early opportunity for public input to the study scope including alternatives and issues to be evaluated.

Major Investment Study (MIS)—evaluation of proposed improvement alternatives, early consideration of environmental factors, concluding with the selection of a Locally Preferred Alternative (LPA).

Preliminary Engineering/Environmental Impact Statement (PE/EIS)—detailed definition of the LPA, evaluation of design options, assessment of potential impacts, development of mitigation measures, preparation and circulation of the Draft EIS, public meetings, and completion of a Final EIS.

Scoping will be accomplished through correspondence with interested persons, organizations, and federal, state, and local agencies, and through public and agency meetings.

DATES: Comment Due Date: Written comments on the scope of alternatives and impacts to be considered should be sent to Kelly R. Goforth, Project Manager, Charlotte Area Transit System, by October 16, 2000. See ADDRESSES below. Scoping Meetings: Public scoping meetings will be held on:

Tuesday, September 26, 2000, 6:30 pm-9:00 pm: Mallard Creek Presbyterian Church, 1600 Mallard Creek Church Rd, Charlotte, NC 28262

Wednesday, September 27, 2000, 6:30 pm-9:00 pm: Charlotte-Mecklenburg Government Center, 600 East Fourth St, Charlotte, NC 28202 (Joint meeting with all corridors—Center City focus)

Thursday, September 28, 2000, 6:30 pm-9:00 pm: Sugaw Creek Recreation Center, 939 West Sugar Creek Road, Charlotte, NC 28213 (Joint meeting with North corridor)

Scoping materials will be available at the meeting or in advance of the meeting by contacting CATS. See ADDRESSES below.

An agency scoping meeting will be held on Wednesday, September 27, 2000, 10 am to 1 pm, Charlotte-Mecklenburg Government Center. See ADDRESSES below.

Scoping is being conducted for three other related corridors—North, Southeast (Independence), and West (Airport)—in the Charlotte-Mecklenburg region at approximately the same time with separate public scoping meetings, as published in separate Notices of Intent. The agency scoping meeting for the Northeast Corridor will be held in conjunction with the three other corridors to address inter-related issues and coordination.

ADDRESSES: Written comments on the scope of alternatives and impacts to be studied should be sent to Kelly R. Goforth, Project Manager, Charlotte Area Transit System, 600 East Fourth Street, Charlotte, NC 28202-2858. Public scoping meetings will be held at the following locations: Mallard Creek Presbyterian Church, 1600 Mallard Creek Church Rd, Charlotte, NC 28262; Charlotte-Mecklenburg Government Center, 600 E. Fourth St, Charlotte, NC 28202; Sugaw Creek Recreation Center, 939 West Sugar Creek Road, Charlotte, NC 28213. See DATES above. An agency scoping meeting will be held at the Charlotte Mecklenburg Government Center, 600 East Fourth St., Charlotte, NC 28202. See DATES above.

FOR FURTHER INFORMATION CONTACT: Ms. Myra Immings, Federal Transit Administration, Region IV, 61 Forsyth Street SW, Suite 17T50, Atlanta, GA 30303; Telephone (404) 562-3508.

SUPPLEMENTARY INFORMATION:

I. Scoping

The FTA and the City of Charlotte invite interested individuals, organizations, and federal, state and local agencies to participate in defining the alternative transit modes and alignments to be evaluated and identifying any significant social, economic, or environmental issues related to the alternatives. Primary issues to be considered include the changes in land uses and future development as they relate to alternative transit systems. Specific suggestions related to additional alternatives to be examined and issues to be addressed are welcome and will be considered in the final scope of the project. Scoping comments may be made at the scoping meetings or in writing no later than October 16, 2000. (see DATES and ADDRESSES above). During scoping, comments should focus on identifying specific social, economic, or environmental impacts to be evaluated, and suggesting alternatives that are less costly or less environmentally damaging which achieve similar transit objectives. Comments should focus on the issues and alternatives for analysis, and not on a preference for a particular alternative.

An information packet, referred to as the Scoping Booklet, will be circulated to all Federal, State, and local agencies with jurisdiction in the project area. Scoping materials will be available at the meeting or in advance of the meeting by contacting the Charlotte Area Transit System as indicated above. If you wish to be placed on the mailing list to receive further information as the project continues contact Kelly Goforth at the Charlotte Area Transit System (see ADDRESSES above).

II. Description of Corridor and Project Need

The Northeast Corridor project is a direct outgrowth of prior transit planning activities for the region. The 2025 Integrated Transit/Land Use Plan for Charlotte-Mecklenburg, developed in 1998, identified key centers of economic activity and the five major transportation corridors in the Charlotte region. The 2025 Plan calls for concentrating development along these corridors and proposes a rapid transit system as a means to support land use initiatives to attain this vision in order to sustain economic growth and protect citizens' quality of life. The 2025 Plan identified the Northeast Corridor as a high-priority transit corridor based on current and future mobility needs, cost feasibility and potential ridership.

The proposed project corridor extends approximately 14 miles from Uptown Charlotte (the center city) in Mecklenburg County to the Concord Mills area near the Mecklenburg—Cabarrus County line. The project study corridor generally follows the Interstate 85 (I-85) corridor which runs in a northeasterly direction from the center city of Charlotte and encompasses major arterials that parallel I-85 including US 29 and NC 49. Land uses in the study corridor are characterized by higher density office and commercial development at the southernmost portion of the corridor located in the center city; the central portion of the corridor has a mixture of uses including commercial, light industrial, warehousing, and manufacturing uses with some scattered low-density residential; and the northeastern portion of the corridor has a mixture of low-density commercial, institutional/business park, and residential developments, with pockets of medium-density residential. Major destinations in the corridor include the University of North Carolina at Charlotte, the University Research Park, and Blockbuster Pavilion.

Interstate 85 is currently a four-lane controlled-access freeway north of the US-29/49 Connector with an average daily traffic (ADT) volume of 60,000 vehicles per day (vpd). From the US-29/49 Connector into the Center City of Charlotte, I-85 is an eight-lane facility with an ADT of 102,000 vpd. This facility experiences severe congestion and delays particularly during the peak travel times and is considered one of the major transportation problems facing the northeast part of the Charlotte region and Cabarrus County. Currently, I-85 is rated as having very poor mobility (level of service F in many sections during peak periods). Future traffic volumes are projected to increase by nearly 200% by the year 2020, with the segment of I-85 between I-485 and Speedway Boulevard having a projected ADT of 140,000 vpd. The North Carolina Department of Transportation (NCDOT) has programmed the section of I-85 between the US-29/49 and Speedway Boulevard to be widened to an eight-lane facility, scheduled to begin construction in 2004. Widening alternatives are currently being evaluated for the section between Speedway Boulevard and US-601 in the City of Concord. However, even with these roadway improvements, a substantial portion of this corridor will still experience peak period congestion.

Future growth projections for the region estimate a population increase of 57 percent and a 47 percent increase in employment by the year 2025. The Charlotte Metropolitan Area has exceeded the Environmental Protection Agency's 1-hour and 8-hour standard for ozone each of the past three years. These violations will likely result in the County being designated as a non-attainment area for ozone, which will be officially stated by US EPA early next year. The primary contributor of air pollutants in the region is mobile emissions.

III. Alternatives

The alternatives proposed for evaluation include: (1) No-Build, which involves no change to transportation service or facilities in the corridor beyond already committed projects; (2) a Transportation System Management alternative, which consists of low to medium cost improvements to the operations of the local bus service, the Charlotte Area Transit System, in addition to the currently planned transit improvements in the corridor; and (3) multiple “Build” alternatives including bus rapid transit (BRT) facilities along the I-85 corridor and other major roadways in this vicinity, and various modes of rail service including commuter rail and light rail transit (LRT) generally following the existing Norfolk Southern railroad right-of-way and/or major arterials within the study corridor. The “Build” alternatives may include alternative land use scenarios to evaluate the potential for focusing development around transit stations. Additional reasonable alternatives suggested through the scoping process may also be considered.

IV. Probable Effects

FTA and the City of Charlotte will identify potentially significant social, economic, and environmental impacts associated with the alternatives considered in the MIS. The primary environmental issues to be considered include potential impacts to air quality, noise and vibration, historical and archaeological resources, visual quality, wetlands, natural areas, rare and endangered species, water quality and potential contamination sites. The primary social and economic impacts proposed for analysis in the MIS include potential changes in land use and future developments, neighborhood and community resource impacts, relocations and displacement impacts, and traffic impacts throughout the project corridor. In addition, both beneficial and adverse impacts to minority and low-income groups will be evaluated. The impacts will be evaluated both for the construction period and for the long-term period of operation. Potential measures to mitigate any significant adverse impacts will be identified.

V. FTA Procedures

In accordance with the federal transportation planning regulations (23 CFR part 450), the MIS will be prepared to include an evaluation of the social, economic, environmental impacts and benefits of the alternatives. The MIS will consider the public and agency comments received. At the conclusion of the MIS, the Metropolitan Transit Commission will select the preferred mode and general alignment alternative for the Northeast Corridor (the LPA). Once the LPA has been included in the Mecklenburg-Union Metropolitan Planning Organization's adopted long-range transportation plan, this project and associated alignment, design, and other options will be further studied in the Preliminary Engineering/Environmental Impact Statement (PE/EIS) phase of project development. Opportunities for agency and public involvement will be provided throughout the MIS and PE/EIS phases.

Dated: September 22, 2000.
Jerry Franklin,
FTA Regional Administrator.

[FR Doc. 00-24861 Filed 9-28-00; 8:45 am]

BILLING CODE 4910-57-P